DEPARTMENT OF COMMERCE

International Trade Administration

Notice of Opportunity To Request Administrative Review; Correction

AGENCY: Enforcement and Compliance, International Trade Administration, Department of Commerce.

ACTION: Notice; correction.

SUMMARY: The U.S. Department of Commerce (Commerce) published notice in the Federal Register of June 3, 2025, in which Commerce announced the opportunity to request administrative reviews of orders, findings, or suspended investigations with June anniversary dates. This notice inadvertently duplicated certain cases with May anniversary dates that were previously announced in the Federal Register of May 5, 2025.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

On June 3, 2025, Commerce published in the Federal Register, the notice entitled Antidumping or Countervailing Duty Order, Finding, or Suspended Investigation; Opportunity To Request Administrative Review and Join Annual Inquiry Service List.¹ We inadvertently duplicated certain cases with May anniversary dates that were previously announced in the Federal Register of May 5, 2025.²

Correction

In the Federal Register of June 3, 2025, in FR Doc. 2025-10049, at 90 FR 23517, correct the table to remove the following antidumping duty orders:

REPUBLIC OF KOREA: Carbon and Alloy Steel Wire Rod (A-580-891); Ferrovanadium (A-580-886); Polyester Staple Fiber (A-580-839).

REPUBLIC OF TÜRKIYE: Carbon and Alloy Steel Wire Rod (A-489-831); Circular Welded Carbon Steel Pipes and Tubes (A-489-501); Large Diameter Welded Carbon and Alloy Steel Like and Structural Pipe (A-489-833); Light-Walled Rectangular Pipe and Tube (A-489-815); Mattresses (A-489-841); Certain Paper Shopping Bags (A-489-849).

SERBIA: Mattresses (A-801-002)

SOCIALIST REPUBLIC OF VIETNAM: Mattresses (A-552-827); Polyethylene Retail Carrier Bags (A-552-806).

SOUTH AFRICA: Stainless Steel Plate in Coils (A-791-805).

SPAIN: Carbon and Alloy Steel Wire Rod (A-469-816).

TAIWAN: Certain Carbon and Alloy Steel Cut-To-Length Plate (A-583-858); Certain Circular Welded Carbon Steel Pipes and Tubes (A-583-008); Polyester Staple Fiber (A-583-833); Polyethylene Retail Carrier Bags (A-583-843); Certain Stainless Steel Plate in Coils (A-583-830); Stilbenic Optical Brightening Agents (A-583-848).

THAILAND: Mattresses (A-549-841).

This notice is not required by statute but is published as a service to the international trading community.

Dated: June 5, 2025.
Scot Fullerton,
Acting Deputy Assistant Secretary for Antidumping and Countervailing Duty Operations.

[FR Doc. 2025-10736 Filed 6-12-25; 8:45 am]

BILLING CODE 3510-DS-P